DEPARTMENT OF JUSTICE

Drug Enforcement Administration

Kiran Bhatt, M.D., Revocation of Registration

On May 21, 2001, the Deputy Assistant Administrator, Office of Diversion Control, Drug Enforcement Administration (DEA), issued an Order to Show Cause (OTSC) by certified mail to Kiran Bhatt, M.D., notifying her of an opportunity to show cause as why the DEA should not revoke her DEA Certificate of Registration, BB2541628, pursuant to 21 U.S.C. 824(a)(3), and to deny any pending applications for renewal of her registration, pursuant to 21 U.S.C. 823(f), on the grounds that Dr. Bhatt was not authorized by the State of California to handle controlled substances. The order also notified Dr. Bhatt that should not request for hearing be filed within 30 days, her right to a hearing would be deemed waived.

The OTSC was sent to Dr. Bhatt at her DEA registered premises to Palo Alto, California. A postal delivery receipt was signed May (day illegible), 2001, on behalf of Dr. Bhatt, indicating the OTSC was received. To date, no response has been received from Dr. Bhatt nor anyone purporting to represent her.

Therefore, the Administrator, finding that (1) 30 days having passed since the receipt of the Order to Show Cause, and (2) no request for a hearing having been received, concludes that Dr. Bhatt is deemed to have waived her right to a hearing. Following a complete review of the investigative file in this matter, the Administrator now enters his final order without a hearing pursuant to 21 CFR 1301.43(d) and (e), and 1301.46 (2001).

The Administrator finds as follows. Dr. Bhatt currently possesses DEA Certificate of Registration BB254168, issued to her in California. By Decision and Order dated December 15, 1998, Medical Board of California, Division of Medical Quality, Department of Consumer Affairs, State of California adopted the Proposed Decision of the Administrative Law Judge revoking Dr. Bhatt's physician and Surgeon's Certificate. The Proposed Decision found, inter alia, that Dr. Bhatt's ability to practice medicine safely is impaired because she is mentally ill, and further that Dr. Bhatt refuses to seek or to receive psychiatric care. The Proposed Decision further found Dr. Bhatt's condition such that without treatment, she poses a substantial risk to the safety and welfare of her patients. The investigative file contains no evidence that Dr. Bhatt's medical license has been reinstated or otherwise renewed.

Therefore, the Administrator concludes that Dr. Bhatt is not currently licensed or authorized to handle controlled substances in California.

The DEA does not have the authority pursuant to the Controlled Substances Act to issue or maintain a registration if the applicant or registrant is without state authority to handle controlled substances in the state in which he or she practices. See 21 U.S.C. 823(f), and 824(a)(3). This prerequisite has been consistently upheld in prior DEA cases. See Graham Travers Schuler, M.D., 65 FR 50,570 (2000); Romeo J. Perez, M.D., 62 FR 16,193 (1997); Demetris A. Green, M.D., 61 FR 60,728 (1996); Dominick A. Ricci, M.D., 58 FR 51,104 (1993).

In the instant case, the Administrator finds the Government has presented evidence demonstrating that Dr. Bhatt is not authorized to practice medicine in California, and therefore, the Administrator infers that Dr. Bhatt is also not authorized to handle controlled substances in California, the State in which she holds her DEA Certificate of Registration.

Accordingly, the Administrator of the Drug Enforcement Administration, pursuant to the authority vested in him by 21 U.S.C. 823 and 824 and 28 CFR 0.100(b) and 0.104, hereby orders that the DEA Certificate of Registration BB2541628, previously issued to Kiran Bhatt, M.D., be, and it hereby is, revoked. The Administrator hereby further orders that any pending applications for renewal or modification of said registration be, and hereby are, denied. This order is effective November 19, 2001.

Dated: October 10, 2001.
Asa Hutchinson,
Administrator.

[FR Doc. 01-26187 Filed 10-17-01; 8:45 am]

BILLING CODE 4410-09-M